NUCLEAR REGULATORY COMMISSION

[Docket No. 40-8968-ML; ASLBP No. 95-706-01-ML]

Hydro Resources, Inc.; Notice of Reconstitution

Pursuant to 10 CFR 2.1207, in the above captioned Hydro Resources, Inc. proceeding, Administrative Judge E. Roy Hawkens is hereby appointed to serve as Presiding Officer in place of Administrative Judge Thomas S. Moore.

In accordance with 10 CFR 2.1203, all correspondence, documents, and other material relating to any matter in this proceeding should be served on Administrative Judge Hawkens as follows: Administrative Judge E. Roy Hawkens, Atomic Safety and Licensing Board Panel, U.S. Nuclear Regulatory Commission, Washington, DC 20555-0001.

Issued at Rockville, Maryland this, 4th day of February 2005.
G. Paul Bollwerk, III,
Chief Administrative Judge, Atomic Safety and Licensing Board Panel.

[FR Doc. 05-2565 Filed 2-9-05; 8:45 am]

BILLING CODE 7590-01-P